DEPARTMENT OF HEALTH AND HUMAN SERVICES

Solicitation of Written Comments on the Human Papillomavirus Vaccination Implementation Work Group Draft Report and Draft Recommendations for Consideration by the National Vaccine Advisory Committee

AGENCY: National Vaccine Program Office, Office of the Assistant Secretary for Health, Office of the Secretary, Department of Health and Human Services.

ACTION: Notice.

SUMMARY: The National Vaccine Advisory Committee (NVAC) was established in 1987 to comply with Title XXI of the Public Health Service Act. Its purpose is to advise and make recommendations to the Director of the National Vaccine Program on matters related to program responsibilities. The Assistant Secretary for Health (ASH) has been designated by the Secretary of Health and Human Services (HHS) as the Director of the National Vaccine Program. The National Vaccine Program Office (NVPO) is located within the Office of the Assistant Secretary for Health (OASH), Office of the Secretary, U.S. Department of Health and Human Services (HHS). NVPO provides leadership and fosters collaboration among the various federal agencies involved in vaccine and immunization activities. The NVPO also supports the National Vaccine Advisory Committee (NVAC). The NVAC advises and makes recommendations to the ASH in his capacity as the Director of the National Vaccine Program on matters related to vaccine program responsibilities.

The ASH charged the NVAC in February 2018 to establish a work group to produce a brief report by June 2018 on recommendations to strengthen the effectiveness of national, state, and local efforts to improve Human Papillomavirus (HPV) coverage rates. Through a series of conference calls, electronic communication, and public discussion at the May 3, 2018, NVAC public meeting, the work group identified a number of draft recommendations for consideration by the NVAC. The work group's draft report and recommendations will inform NVAC deliberations as it finalizes recommendations for transmittal to the ASH.

On behalf of NVAC, NVPO is soliciting public comment on the draft report and draft recommendations from a variety of stakeholders, including the general public, for consideration by the NVAC as they develop their final recommendations to the ASH. It is anticipated that the draft report and draft recommendations, as revised with consideration given to public comment and stakeholder input, will be presented to the NVAC for adoption in June 2018 at the quarterly NVAC meeting.

DATES: Comments for consideration by the NVAC should be received no later than 5:00 p.m. EDT on June 15, 2018.

ADDRESSES:

(1) The draft report and draft recommendations are available on the web at http://www.hhs.gov/nvpo/nvac/index.html.

(2) Electronic responses may be sent to: nvac@hhs.gov.

FOR FURTHER INFORMATION CONTACT: Captain Angela Shen, Designated Federal Officer, National Vaccine Program Office, U.S. Department of Health and Human Services, Room 715H, Hubert H. Humphrey Building, 200 Independence Avenue SW, Washington, DC 20201. Phone: 202-690-5566; email nvac@hhs.gov.

SUPPLEMENTARY INFORMATION:

I. Background

On June 9, 2015, the National Vaccine Advisory Committee (NVAC) issued a report “Overcoming Barriers to Low HPV Vaccine Uptake in the United States: Recommendations from the National Vaccine Advisory Committee.” This report provided recommendations to the ASH on how to increase Human Papillomavirus (HPV) vaccine uptake in young adolescents by reviewing the current state of HPV immunization, understanding the root cause(s) for the observed relatively low vaccine uptake (both initiation and series completion), and identifying existing best practices. Since the original NVAC HPV report, substantial progress led to policy and program changes and advances in research. To build on the substantial progress made toward increasing HPV vaccination coverage rates, the ASH charged the NVAC in February 2018 to establish a work group to produce a brief report by June 2018 on recommendations to “strengthen the effectiveness of national, state, and local efforts to improve HPV coverage rates.” The ASH specifically requested the NVAC to consider the following:

(1) Many national organizations are currently supporting HPV efforts. Are there additional national organizations that might contribute to increasing HPV vaccination coverage?

(2) At the state level, many states have formed coalitions to support HPV vaccination efforts. Is there general guidance for states that do not yet have coalitions?

(3) Integrated health care delivery networks can successfully integrate comprehensive quality improvement approaches to increase vaccination coverage rates. How can state immunization programs and coalitions engage with health systems to work together on improving HPV vaccination coverage?

(4) Please specify recommendations on how to meet the needs of providers in rural areas.

The NVAC established the Human Papillomavirus Vaccination Implementation Work Group in February 2018, a work group tasked to engage with a wide-range of implementation partners from across all sectors (e.g., government, industry, health systems, associations, academia, and non-profit) to inform NVAC's work and these recommendations.

The NVAC draft report highlights the progress made toward increasing HPV vaccination coverage rates, since the 2015 NVAC report. The recommendations detail how the ASH can support HHS activities to strengthen the effectiveness of national, state, and local efforts to improve HPV coverage rates.

II. Request for Comment

NVPO, on behalf of the NVAC HPV Vaccination Implementation Work Group, requests input on the draft report and draft recommendations. Please limit your comments to three (3) pages.

III. Potential Responders

HHS invites input from a broad range of stakeholders including individuals and organizations that have interests U.S. vaccine and immunization efforts and the role of HHS in advancing those efforts.

Examples of potential responders include, but are not limited to, the following:

—General public;

—advocacy groups, non-profit organizations, and public interest organizations;

—academics, professional societies, and healthcare organizations;

—public health officials and immunization program managers;

—physician and non-physician providers that administer immunization services, including pharmacists; and

—representatives from the private sector.

When responding, please self-identify with any of the above or other categories (include all that apply) and your name. Anonymous submissions will not be considered. Written submissions should not exceed three (3) pages. Please do not send proprietary, commercial, financial, business, confidential, trade secret, or personal information.

Dated: May 24, 2018.
Roula Sweis,
Deputy Director, National Vaccine Program Office.

[FR Doc. 2018-11745 Filed 5-30-18; 8:45 am]

BILLING CODE 4150-44-P